DEPARTMENT OF HEALTH AND HUMAN SERVICES

Office of the Secretary

[Document Identifier HHS-OS-20584-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, Office of the Secretary, OS seeks comments from the public regarding the burden estimate, below, or any other aspect of the ICR.

DATES: Comments on the ICR must be received on or before November 26, 2013.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-20584-60D for reference. Information Collection Request Title: Survey on Long-Term Care Awareness and Planning.

Abstract: The Office of the Assistant Secretary for Planning and Evaluation (ASPE) is requesting approval from the Office of Management and Budget (OMB) to conduct a survey of adults between the ages of 40 and 70 on long-term care awareness, how people plan for retirement and their preferences for long-term care financing options. Long-term care includes helping people with daily activities, such as bathing, dressing, taking medications, and preparing meals over a long period of time. Long-term care can be provided in nursing homes, assisted living facilities, adult day care programs, and individual homes. Most people with disabilities are elderly, but people of all ages may need long-term care (Kaye, Harrington, & LaPlante, 2010).

The goal of this project is to contribute to the knowledge base regarding how people plan for the possibility of needing long-term care and for retirement in general and assess their preferences about long-term care insurance. Information about long-term care and retirement planning will be obtained from a large sample of individuals 40-70 years of age who are part of an ongoing Internet panel maintained by GfK Custom Research, LLC. Prior to the development of the survey instrument, a thorough review of the literature was conducted and conceptual framework prepared. A survey instrument was developed with contributions of a Technical Expert Panel (TEP), which provided guidance on the content and methodology of the survey instrument and comprised experts on survey methodology and long-term care and long-term care insurance. Part of the survey is a discrete choice experiment (DCE) designed to elicit respondent preferences on features of long-term care insurance. The survey was cognitively assessed and revised based on revised based on the results of the testing. GfK will administer the survey; RTI International will analyze the survey. Both GfK and RTI have experience doing similar work for HHS/ASPE and other government clients.

Need and Proposed Use of the Information: To determine how adults between the ages of 40 and 70 plan for retirement and their preferences for long-term care financing options.

Likely Respondents: Adults between the ages of 40 and 70

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
Self-administered, Web-based questionnaire | 15,000 | 1 | 0.75 | 11,250
Total |  |  |  | 11,250

Office of the Secretary, OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Deputy Information Collection Clearance Officer.

[FR Doc. 2013-23588 Filed 9-26-13; 8:45 am]

BILLING CODE 4150-05-P